DEPARTMENT OF VETERANS AFFAIRS

Veterans' Rural Health Advisory Committee, Notice of Meeting

The Department of Veterans Affairs (VA) gives notice under the Federal Advisory Committee Act, 5 U.S.C. Appt. 2, that the Veterans' Rural Health Advisory Committee will conduct a telephone conference call meeting from 2 p.m. to 3:30 p.m. on Tuesday, January 29, 2013, in Room GL20 of the Office of Rural Health (ORH), 1722 I Street, NW., Washington, DC. The toll-free number for the meeting is 1-800-767-1750, and the access code is 44970#. The meeting is open to the public.

The purpose of the Committee is to advise the Secretary of Veterans Affairs on health care issues affecting enrolled Veterans residing in rural areas. The Committee examines programs and policies that impact the provision of VA health care to enrolled Veterans residing in rural areas and discusses ways to improve and enhance VA services for these Veterans.

The Committee will receive an update from the ORH Director; discuss VA's response to the 2011 Annual Report; and the agenda and planning for the Committee's upcoming May 2013 meeting in Washington, DC.

A 15-minute period will be reserved at 3:15 p.m. for public comments. Individuals who wish to address the Committee are invited to submit a 1-2 page summary of their comments for inclusion in the official meeting record. Members of the public may also submit written statements for the Committee's review to Ms. Judy Bowie, Designated Federal Officer, ORH (10P1R), Department of Veterans Affairs, 810 Vermont Avenue NW, Washington, DC 20420, or email at rural.health.inquiry@va.gov. Any member of the public seeking additional information should contact Ms. Bowie at (202) 461-7100.

Dated: December 22, 2012.
By Direction of the Secretary.
Vivian Drake,
Committee Management Officer.

[FR Doc. 2012-31333 Filed 12-28-12; 8:45 am]

BILLING CODE P